DEPARTMENT OF LABOR

Occupational Safety and Health Administration

Maritime Advisory Committee for Occupational Safety and Health; Notice of Meeting

AGENCY: Occupational Safety and Health Administration (OSHA), Labor.

ACTION: Maritime Advisory Committee for Occupational Safety and Health (MACOSH); Notice of meeting.

SUMMARY: The Maritime Advisory Committee for Occupational Safety and Health (MACOSH) was established to advise the Assistant Secretary of Labor for OSHA on issued relating to occupational safety and health in the maritime industries. The purpose of this Federal Register notice is to announce to MACOSH meeting scheduled for September 2006.

DATES: The Committee will meet on September 26, 2006 from 9 a.m. to 4:30 p.m., and September 27, 2006 from 8:30 a.m. to 4 p.m.

ADDRESSES: The Committee will meet at the U.S. Department of Labor, 200 Constitution Avenue, NW., Washington, DC 20210. On Tuesday September 26, the Committee will meet in conference room C-5521 room #4; on Wednesday September 27, the Committee will meet in conference room N-3437 rooms A, B, and C. Mail comments, views, or statements in response to this notice to Jim Maddux, Director, Office of Maritime, OSHA, U.S. Department of Labor, Room N-3609, 200 Constitution Avenue, NW., Washington, DC 20210; phone (202) 693-2086; FAX: (202) 693-1663.

FOR FURTHER INFORMATION CONTACT: For general information about MACOSH, and this meeting contact: Jim Maddux, Director, Office of Maritime, U.S. Department of Labor, Room N-3609, 200 Constitution Avenue, NW., Washington, DC 20210; phone (202) 693-2086. Individuals with disabilities wishing to attend the meeting should contact Vanessa L. Welch at (202) 693-2086 no later than September 19, 2006 to obtain appropriate accommodations.

SUPPLEMENTARY INFORMATION: All MACOSH meetings, including work group meetings, are open to the public. All interested persons are invited to attend the MACOSH meetings at the times and places listed above. Since the Committee has just been re-established, and his nine new members, the agenda will include discussions of OSHA's programs and activities such as: Standards and guidance; enforcement; cooperative programs; and science, technology and medicine. The agenda will also include discussions on forming MACOSH work groups; identification of maritime safety and health issues; radiation screening of cargo containers and general administrative procedures.

Public Participation: Written data, views or comments for consideration by MACOSH on the various agenda items listed above should be submitted to vanessa L. Welch at the address listed above. Submissions received by September 12, 2006, will be provided to Committee members and will be included in the record of the meeting. Requests to make oral presentations to the Committee may be granted as time permits. anyone wishing to make an oral presentation to the committee on any of the agenda items listed above should notify Vanessa L. Welch by September 12, 2006. The request should state the amount of time desired, the capacity in which the person will appear,, and a brief outline of the content of the presentation.

Authority: Edwin G. Foulke, Jr., Assistant Secretary of Labor for Occupational Safety and Health, directed the preparation of this notice under the authority granted by 6(b)(1) and 7(b) of the Occupational Safety and Health Act of 1970 (29 U.S.C. 655, 656), the Federal Advisory Committee Act (5 U.S.C. App. 2), and 29 CFR part 1912.

Signed at Washington, DC, this 23rd day of August, 2006.
Edwin G. Foulke, Jr.,
Assistant Secretary of Labor.

[FR Doc. 06-7237 Filed 8-29-06; 8:45 am]

BILLING CODE 4510-26-M